DEPARTMENT OF STATE

[Public Notice 4939]

HR/REE—Office of Recruitment, Examination, and Employment; 60-Day Notice of Proposed Information Collection: DS-3091, Thomas R. Pickering Foreign Affairs Fellowship Program, OMB # 1405-0143

ACTION: Notice of request for public comments.

SUMMARY: The Department of State is seeking Office of Management and Budget (OMB) approval for the information collection described below. The purpose of this notice is to allow 60 days for public comment in the Federal Register preceding submission to OMB. This process is conducted in accordance with the Paperwork Reduction Act of 1995.

• Title of Information Collection: Thomas R. Pickering Foreign Affairs Fellowship Program.

• OMB Control Number: 1405-0143.

• Type of Request: Extension of a Currently Approved Collection.

• Originating Office: HR/REE.

• Form Number: DS-3091.

• Respondents: University Graduate and Undergraduate Students.

• Estimated Number of Respondents: 500.

• Estimated Number of Responses: 500.

• Average Hours Per Response: 3.

• Total Estimated Burden: 1,500.

• Frequency: Annual.

• Obligation to Respond: Required to Obtain a Benefit.

DATES: The Department will accept comments from the public up to sixty days from December 2, 2004.

ADDRESSES: You may submit comments by the following methods:

• Email: BetheaND@state.gov.

• Mail: Department of State, 2401 E Street NW., SA-1 RmH518, Washington, DC 20522.

• Fax: 202-261-8841 Attn: Pickering Program.

FOR FURTHER INFORMATION CONTACT: Direct requests for additional information regarding the collection listed in this notice, including requests of the proposed information collection and supporting documents, to Norris Bethea, Department of State, 2401 E Street, NW, 5H, Washington, DC 20522, who may be reached on 202-647-8994.

SUPPLEMENTARY INFORMATION: We are soliciting public comments to permit the Department of State to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

Abstract: The Department of State collects this information to identify qualified candidates for the Thomas R. Pickering Foreign Affairs Program.

Methodology: Applications are accepted by mail.

Dated: October 20, 2004.
Ruben Torres,
Executive Director, Bureau of Human Resources, Department of State.

[FR Doc. 04-27989 Filed 12-21-04; 8:45 am]

BILLING CODE 4710-15-P